SMALL BUSINESS ADMINISTRATION

Annual Meeting of the Regional Small Business; Regulatory Fairness Boards

AGENCY: Office of the National Ombudsman, Small Business Administration.

ACTION: Notice of open meeting of the Regional Small Business Regulatory Fairness Boards.

SUMMARY: The SBA, Office of the National Ombudsman, is issuing this notice to announce the location, date, time and agenda for the annual board meeting of the ten Regional Small Business Regulatory Fairness Boards. The meeting is open to the public.

DATES: The meeting will be held on Wednesday, September 11, 2024, from 9:00 a.m. to 5:30 p.m. EDT, and Thursday, September 12, 2024, from 9:00 a.m. to 5:00 p.m. EDT.

ADDRESSES: The meeting will be held at U.S. Small Business Administration, 409 3rd Street SW, Washington, DC 20416 on the concourse level in Eisenhower Hall.

SUPPLEMENTARY INFORMATION: Pursuant to the Small Business Regulatory Enforcement Fairness Act (Pub. L. 104-121), sec. 222, SBA announces the meeting of the Regional Small Business Regulatory Fairness Boards (Regional Regulatory Fairness Boards). The Regional Regulatory Fairness Boards are tasked to advise the National Ombudsman on matters of concern to small businesses relating to enforcement activities of agencies and to report on substantiated instances of excessive enforcement actions against small business concerns, including any findings or recommendations of the Board as to agency enforcement practice or policy.

The purpose of the meeting is to discuss the following topics related to the Regional Regulatory Fairness Boards:

—Introduction of the Regional Regulatory Fairness Boards and the staff of the Office of the National Ombudsman

—Facilitated discussion of ongoing regulatory issues for small business

—Annual Report to Congress Update

—Office of Advocacy regulatory review

—SBA update and future outreach planning

FOR FURTHER INFORMATION CONTACT: The meeting is open to the public; however advance notice of attendance is requested. Anyone wishing to attend must contact John Kelly, Case Management Specialist, by September 2, 2024. If you need accommodations because of a disability, translation services, or require additional information, please contact John Kelly, by phone (888) 734-3247, by fax (202) 481-5719 or email ombudsman@sba.gov, by August 28, 2024.

For more information on the Office of the National Ombudsman, please visit our website at www.sba.gov/ombudsman.

Dated: August 9, 2024.
Andrienne Johnson,
SBA Committee Management Officer.

[FR Doc. 2024-18183 Filed 8-14-24; 8:45 am]

BILLING CODE P